DEPARTMENT OF JUSTICE

Notice of Lodging of Consent Decree Under the Comprehensive Environmental Response, Compensation, and Liability Act

Notice is hereby given that on April 8, 2005, a proposed consent decree in United States v. Atlantic Richfield Company, No. CIV-S-05-00686 GEB-DAD, was lodged with the United States District Court for the Eastern District of California.

The complaint, filed concurrently with lodging of the consent decree, seeks reimbursement pursuant to Section 107 of the Comprehensive Environmental Response, Compensation, and Liability Act, 42 U.S.C. 9607, of response costs incurred and to be incurred by the U.S. Department of Agriculture, U.S. Forest Service, at the Walker Mine Tailings Site, located in the Plumas National Forest, Plumas County, California. The consent decree provides that Atlantic Richfield will pay $2.5 million towards the United States' response costs. In exchange for that settlement payment, Atlantic Richfield will receive a site-wide covenant-not-to-sue, subject to certain reservations.

The Department of Justice will receive for a period of thirty (30) days from the date of this publication comments relating to the consent decree. Comments should be addressed to the Assistant Attorney General, Environment and Natural Resources Division, P.O. Box 7611, U.S. Department of Justice, Washington, DC 20044-7611, and should refer to United States v. Atlantic Richfield Company, D.J. Ref. No. 90-11-2-1320.

During the public comment period, the consent decree may be examined on the following Department of Justice website, http://www.usdoj.gov/enrd/open.html. A copy of the consent decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy, please enclose a check in the amount of $8.50 (25 cents per page reproduction cost), or $5.50 for a copy without attachments, payable to the U.S. Treasury.

Ellen M. Mahan,
Assistant Chief, Environmental Enforcement Section, Environment and Natural Resources Division.

[FR Doc. 05-7932 Filed 4-19-05; 8:45 am]

BILLING CODE 4410-55-M